ARCHITECTURAL AND TRANSPORTATION BARRIERS COMPLIANCE BOARD

[Docket No. ATBCB-2020-0005]

Proposed Submission of Information Collection for OMB Review; Comment Request; Generic Clearance for the Collection of Qualitative Feedback on Agency Service Delivery

AGENCY: Architectural and Transportation Barriers Compliance Board.

ACTION: Notice and request for comments.

SUMMARY: In accordance with the Paperwork Reduction Act of 1995 (PRA), the Architectural and Transportation Barriers Compliance Board (Access Board) invites comment on the proposed extension of its existing generic clearance for the collection of qualitative feedback on agency service delivery, which was developed as part of a Federal Government-wide effort to streamline the process for seeking feedback from the public expires in January 2021. (OMB Control No. 3014-0011). This information collection on service delivery. With this notice, the Access Board solicits comments on extension of its existing generic clearance without change. Following review of comments received in response to this 60-day notice, the Access Board intends to submit a request to the Office of Management and Budget (OMB) to renew its generic clearance for collection of qualitative feedback for another three-year term.

DATES: Submit comments by February 16, 2021.

ADDRESSES: You may submit comments, by any of the following methods:

• Federal eRulemaking Portal: http://www.regulations.gov. Follow the directions for sending comments.

• Email: spiegel@access-board.gov. Include ATBCB-2020-0005 in the subject line of the message.

Instructions: All submissions received must include the agency name and docket number for this Notice (ATBCB-2020-0005). All comments received, including any personal information provided, will be posted without change to http://www.regulations.gov. For this reason, please do not include information of a confidential nature in your comments, such as sensitive personal or proprietary information. For additional submission methods, please contact the person identified below for availability information.

FOR FURTHER INFORMATION CONTACT: Frances Spiegel, Attorney Advisor, Office of General Counsel, U.S. Access Board, 1331 F Street NW, Suite 1000, Washington, DC 20004-1111. Phone: 202-272-0041 (voice). Email: spiegel@access-board.gov.

SUPPLEMENTARY INFORMATION:

A. Background

Under the PRA and its implementing regulations (5 CFR part 1320), Federal agencies must obtain approval from OMB for each collection of information they conduct or sponsor (e.g., contractually-required information collection by a third-party). “Collection of information,” within the meaning of the PRA, includes agency requests that pose identical questions to, or impose reporting or recording keeping obligations on, ten or more persons, regardless of whether response to such request is mandatory or voluntary. See 5 CFR 1320.3(c); see also 44 U.S.C. 3502(3). Before seeking clearance from OMB, agencies are generally required, among other things, to publish a 60-day notice in the Federal Register concerning any proposed information collection—including extension of a previously-approved collection—and provide an opportunity for comment. See 44 U.S.C. 3506(c)(2)(A); 5 CFR 1320.8(d)(1).

B. Proposed Renewal of Information Collection Request

The Access Board is providing notice of its intent to seek renewal of its existing generic clearance for the collection of qualitative feedback with regard to agency services delivered by its Office of Technical and Information Services (OTIS) and Architectural Barriers Act (ABA) compliance and enforcement program. To date, we have found the feedback garnered through qualitative customer satisfaction surveys (and similar information collections) to be beneficial, by providing useful insights in experiences, perceptions, opinions, and expectations regarding Access Board services or focusing attention on areas in need of improvement. We thus intend to seek approval to continue our current efforts to solicit qualitative customer feedback by seeking input from customers across our agency programs and services. Online surveys will be used unless the customer contacts the agency by phone for technical assistance or an individual otherwise expresses a preference for another survey format (i.e., fillable form in portable document format or paper survey). In addition, paper surveys may be used to garner feedback from participants at in-person trainings or similar events.

OMB Control Number: 3014-0011.

Title: Generic Clearance for the Collection of Qualitative Feedback on Agency Service Delivery.

Type of Request: Extension without change.

Abstract: The proposed information collection activity facilitates collection of qualitative customer and stakeholder feedback in an efficient, timely manner, in accordance with the Federal Government's commitment to improving service delivery. By qualitative feedback we mean information collections that provide useful insights on perceptions and opinions but are not statistical surveys that yield quantitative results that can be generalized to the population of study. This feedback will provide insight into customer or stakeholder perceptions, experiences and expectations, provide an early warning of issues with service, or focus attention on areas where communication, training, or changes in operations might improve delivery of services. These collections will allow for ongoing, collaborative, and actionable communications between the Access Board and its customers and stakeholders.

Respondents/Affected Public: Individuals and Households; Businesses and Organizations; State, Local or Tribal Government.

Burden Estimates: In the table below (Table 1), the Access Board provides estimates for the annual reporting burden for the information collections proposed under this renewed generic information collection request. (The Access Board does not anticipate incurring any capital or other direct costs associated with this information collection. Nor will there be any costs to respondents, other than their time.)

Table 1—Estimated Annual Burden Hours
Type of collection | Number of respondents | Frequency of response (per year) | Average response time (mins.) | Total burden (hours)
Customer feedback surveys—Office of Technical and Information Services | 3,830 | 1 | 4 | 255
Customer feedback survey: ABA Compliance and enforcement program | 40 | 1 | 4 | 3
Totals | 3,870 | n/a | n/a | 258
(Note: Total burden hours per collection rounded to the nearest full hour.)

Request for Comment: The Access Board seeks comment on any aspect of the proposed renewal of its existing generic clearance for the collection of qualitative feedback on agency service delivery, including (a) whether the proposed collection of information is necessary for the Access Board's performance; (b) the accuracy of the estimated burden; (c) ways for the Access Board to enhance the quality, utility, and clarity of the information collection; and (d) ways that the burden could be minimized without reducing the quality of the collected information. Comments will be summarized and included in our request for OMB's approval of renewal of our existing generic clearance.

Gretchen Jacobs,
Interim Executive Director.

[FR Doc. 2020-27722 Filed 12-16-20; 8:45 am]

BILLING CODE 8150-01-P